DEPARTMENT OF THE INTERIOR

National Park Service

Notice of Inventory Completion for Native American Human Remains and Associated Funerary Objects in the Possession of the Bureau of Land Management, California State Office, Sacramento, CA

AGENCY: National Park Service, Interior.

ACTION: Notice.

Notice is hereby given in accordance with provisions of the Native American Graves Protection and Repatriation Act (NAGPRA), 43 CFR 10.9, of the completion of an inventory of human remains and associated funerary objects in the possession of the Bureau of Land Management, California State Office, Sacramento, CA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Bureau of Land Management and San Diego Museum of Man professional staff in consultation with representatives of Kumeyaay Cultural Repatriation Committee, authorized representative of the Campo Band of Diegueno Mission Indians of the Campo Reservation, the Capitan Grande Band of Diegueno Mission Indians of California, the Barona Group of Capitan Grande Band of Mission Indians of the Barona Reservation, the Viejas (Baron Long) Group of Capitan Grande Band of Mission Indians of the Viejas Reservation, the Cuyapaipe Community of Diegueno Mission Indians of the Cuyapaipe Reservation, the Inaja Band of Diegueno Mission Indians of the Inaja and Cosmit Reservation, the La Posta Band of Diegueno Mission Indians of the La Posta Reservation, the Manzanita Band of Diegueno Mission Indians of the Manzanita Reservation, the Jamul Indian Village, the Mesa Grande Band of Diegueno Mission Indians of the Mesa Grande Reservation, the San Pasqual Band of Diegueno Mission Indians of California, the Santa Ysabel Band of Diegueno Mission Indians of the Santa Ysabel Reservation, and the Sycuan Band of Diegueno Mission Indians of California.

In 1931, human remains representing one individual were removed from site C-5, located on the shoreline of the ancient Blake Sea, Imperial County, CA, during legally authorized excavations conducted by the San Diego Museum of Man. No known individual was identified. The four associated funerary objects are a mano, a fragmentary flaked stone knife, and utilized stone flakes.

During the mid-1920's, human remains representing three individuals were removed from site C-11, located on the shoreline of the ancient Blake Sea, Imperial County, CA, during legally authorized excavations conducted by the San Diego Museum of Man. No known individuals were identified. The 58 associated funerary objects are shell beads, arrow points, scrapers, and flakes.

During the mid-1920's, human remains representing one individual were removed from site C-12, located on the shoreline of the ancient Blake Sea, Imperial County, CA, during legally authorized excavations conducted by the San Diego Museum of Man. No known individual was identified. The 11 associated, funerary objects are shell beads, a man, pottery shards, a burned mammal bone fragment, and stone flakes.

During the mid-1920's, human remains representing three individuals were removed from site C-13, located on the shoreline of the ancient Blake Sea, Imperial County, CA, during legally authorized excavations conducted by the San Diego Museum of Man. No known individuals were identified. The 20 associated funerary objects are pottery sherds, olivella beads, a clamshell bead, clamshell fragments, and a projectile point.

During the mid-1920's, human remains representing five individuals were removed from site C-79, located on the shoreline of the ancient Blake Sea, Imperial County, CA, during legally authorized excavations conducted by the San Diego Museum of Man. No known individuals were identified. The 455 associated funerary objects are arrow points, olivella beads, pottery sherds, a bone awl, manos, a hammerstone, cores, a scraper, an arrow straightener, an abrader, an antler tip, and a cobble.

During the mid-1920's, human remains representing one individual were recovered from site C-103, west Imperial County, CA, during legally authorized excavations conducted by the San Diego Museum of Man. No known individual was identified. The six associated funerary objects are a cardium pendant, olivella beads, a conus shell fragment, an arrow point, and a bone awl.

During the mid-1920's, human remains representing three individuals were removed from site C-123, located in East San Felipe Valley, Imperial County, CA, during legally authorized excavations conducted by the San Diego Museum of Man. No known individuals were identified. The 46 associated funerary objects are pottery sherds, a pottery vessel, arrow points, a stone knife fragment, flakes, a mammal bone fragment, a Haliotis shell pendant, olivella beads, a turitella shell fragment, cardium shell fragments, a bone tool, burnt wood, and unidentified material.

In 1924, human remains representing two individuals were removed from site C-124, Harpers Well, Imperial County, CA, during legally authorized excavations conducted by the San Diego Museum of Man. No known individuals were identified. The 41 associated funerary objects are pottery vessels, pottery sherds, olivella beads, a fragmentary pipe, a pottery ladle, and charcoal fragments.

In 1924, human remains representing two individuals were removed from site C-129, Harper's Well, Imperial County, CA, during legally authorized excavations conducted by the San Diego Museum of Man. No known individuals were identified. The three associated funerary objects are a pottery cup, a pottery bowl, and a pottery plate.

During the 1920's, human remains representing one individual were recovered from site C-139, Yaqui Well, Imperial County, CA, during legally authorized excavations conducted by the San Diego Museum of Man. No known individual was identified. No associated funerary objects are present.

In 1927, human remains representing six individuals were removed from site C-140, Grapevine Canyon, Imperial County, CA, during legally authorized excavations conducted by the San Diego Museum of Man. No known individuals were identified. The 317 associated funerary objects are olivella beads, a mass of melted glass beads, a pottery dish, pottery vessels, pottery sherds, tobacco pipes, clamshell fragments, a bone tool, animal bone fragments, arrow points, a pestle, stone flakes, an iron knife fragment, and a tourmaline crystal.

In 1926 and 1929, human remains representing two individuals were removed from site C-141 located near Angelin Hill, Imperial County, CA, during legally authorized excavations conducted by the San Diego Museum of Man. No known individuals were identified. The 43 associated funerary objects are pottery vessels, pottery sherds, and stone scrapers.

In 1929, human remains representing one individual were removed from site C-141-1-A, Stuart Spring, Imperial County, CA, during legally authorized excavations conducted by the San Diego Museum of Man. No known individuals were identified. The one associated funerary objects is a pottery vessel.

In 1931, human remains representing one individual were removed from site C-142, near San Felipe, Imperial County, CA, during legally authorized excavations conducted by the San Diego Museum of Man. No known individuals were identified. The two associated funerary objects are a bone awl and a pottery sherd.

In 1929 and 1932, human remains representing one individual were removed from site C-157, eastern San Diego County, CA, during legally authorized excavations conducted by the San Diego Museum of Man. No known individual was identified. No associated funerary objects are present.

In 1927, human remains representing two individuals were removed from site C-160, South Pinyon Basin, Imperial County, CA, during legally authorized excavations conducted by the San Diego Museum of Man. No known individuals were identified. The 547 associated funerary objects are olivella beads, arrow points, pottery sherds and vessels, tobacco pipes, arrow straighteners, cores, flakes, a pestle, a pottery amulet, a milling slab, bone awl, human bone pendants, shell ornaments, shell fragment, metal knife fragments, a metal ring, a porcelain pendant, a lump of graphite, and a sandstone grave marker.

During the mid-1920's, human remains representing a minimum of one individual were recovered from site C-169, located on the shoreline of the ancient Blake Sea, Imperial County, CA, during legally authorized excavations conducted by the San Diego Museum of Man. No known individual was identified. The 15 associated funerary objects are olivella beads and arrow points.

During 1935-1936, human remains representing 15 individuals were removed from site C-173, located at the juncture of Orifamma and Rodriques Creeks, Imperial County, CA, during legally authorized excavations conducted by the San Diego Museum of Man. No known individuals were identified. The 413 associated funerary objects are olivella shell beads, tubular clamshell beads, a shell pendant, glass beads, a metal button, metal knife fragments, a stone arrowshaft straightener, pottery sherds, pottery vessels, pottery smoking pipes, stone knives and arrow points, red pigment lumps, a metate, a hammerstone, bone awls, antler flaker, a bake clay nodule, and burnt animal bones.

Based on the common occurrence of brown and buff-ware pottery from the lower Colorado River area, small projectile points, and late period shell beads imported from the southern California coastal area, all of the human remains and associated funerary objects from the Imperial and San Diego counties may be dated to the late precontact period in the Southern California Colorado Desert Sequence (BP 300—400 or less). Based on linguistic evidence, the peoples in this area were known as the Hokan, and are referred to in archeological literature as “Yuman.” A clear continuum of language and material culture exists in this area from the late precontact period into the contact era, supported by the presence of European items among the associated funerary objects. Though the Diegueno and Kumeyaay native communities of Imperial and San Diego counties were badly fragmented, they are credited with holding the lands where the above-listed sites are located and recognize this area as an ancestral homeland. Historic records of Spanish and early American explorations and studies further support these affiliations.

Based on the above-mentioned information, officials of the Bureau of Land Management have determined that, pursuant to 43 CFR 10.2 (d)(1), the human remains listed above represent the physical remains of a minimum of 62 individuals of Native American ancestry. Officials of the Bureau of Land Management also have determined that, pursuant to 43 CFR 10.2 (d)(2), the 1,982 objects listed above are reasonably believed to have been placed with or near individual human remains at the time of death or later as part of the death rite or ceremony. Lastly, officials of the Bureau of Land Management have determined that, pursuant to 43 CFR 10.2 (e), there is a relationship of shared group identity that can be reasonably traced between these Native American human remains and associated funerary objects and the Campo Band of Diegueno Mission Indians of the Campo Reservation, the Capitan Grande Band of Diegueno Mission Indians of California, the Barona Group of Capitan Grande Band of Mission Indians of the Barona Reservation, the Viejas (Baron Long) Group of Capitan Grande Band of Mission Indians of the Viejas Reservation, the Cuyapaipe Community of Diegueno Mission Indians of the Cuyapaipe Reservation, the Inaja Band of Diegueno Mission Indians of the Inaja and Cosmit Reservation, the La Posta Band of Diegueno Mission Indians of the La Posta Reservation, the Manzanita Band of Diegueno Mission Indians of the Manzanita Reservation, the Jamul Indian Village, the Mesa Grande Band of Diegueno Mission Indians of the Mesa Grande Reservation, the San Pasqual Band of Diegueno Mission Indians of California, the Santa Ysabel Band of Diegueno Mission Indians of the Santa Ysabel Reservation, and the Sycuan Band of Diegueno Mission Indians of California. This notice has been sent to officials of the Campo Band of Diegueno Mission Indians of the Campo Reservation, the Capitan Grande Band of Diegueno Mission Indians of California, the Barona Group of Capitan Grande Band of Mission Indians of the Barona Reservation, the Viejas (Baron Long) Group of Capitan Grande Band of Mission Indians of the Viejas Reservation, the Cuyapaipe Community of Diegueno Mission Indians of the Cuyapaipe Reservation, the Inaja Band of Diegueno Mission Indians of the Inaja and Cosmit Reservation, the La Posta Band of Diegueno Mission Indians of the La Posta Reservation, the Manzanita Band of Diegueno Mission Indians of the Manzanita Reservation, the Jamul Indian Village, the Mesa Grande Band of Diegueno Mission Indians of the Mesa Grande Reservation, the San Pasqual Band of Diegueno Mission Indians of California, the Santa Ysabel Band of Diegueno Mission Indians of the Santa Ysabel Reservation, and the Sycuan Band of Diegueno Mission Indians of California, and the Kumeyaay Cultural Repatriation Committee. Representatives of any other Indian tribe that believes itself to be culturally affiliated with these human remains and associated funerary objects should contact Russell Kaldenberg, Archeologist, Division of Ecosystems Sciences and Lands, California State Office, Bureau of Land Management, 2135 Butano Drive, Sacramento, CA 95825, telephone (916) 978-4635, before November 24, 2000. Repatriation of the human remains and associated funerary objects to the Campo Band of Diegueno Mission Indians of the Campo Reservation, the Capitan Grande Band of Diegueno Mission Indians of California, the Barona Group of Capitan Grande Band of Mission Indians of the Barona Reservation, the Viejas (Baron Long) Group of Capitan Grande Band of Mission Indians of the Viejas Reservation, the Cuyapaipe Community of Diegueno Mission Indians of the Cuyapaipe Reservation, the Inaja Band of Diegueno Mission Indians of the Inaja and Cosmit Reservation, the La Posta Band of Diegueno Mission Indians of the La Posta Reservation, the Manzanita Band of Diegueno Mission Indians of the Manzanita Reservation, the Jamul Indian Village, the Mesa Grande Band of Diegueno Mission Indians of the Mesa Grande Reservation, the San Pasqual Band of Diegueno Mission Indians of California, the Santa Ysabel Band of Diegueno Mission Indians of the Santa Ysabel Reservation, and the Sycuan Band of Diegueno Mission Indians of California may begin after that date if no additional claimants come forward.

Dated: October 16, 2000.
John Robbins,
Assistant Director, Cultural Resources Stewardship and Partnerships.

[FR Doc. 00-27206 Filed 10-23-00; 8:45 am]

BILLING CODE 4310-70-F